ENVIRONMENTAL PROTECTION AGENCY

[ER-FRL-6626-6]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated May 18, 2001 (66 FR 27647).

Draft EISs

ERP No. D-FHW-G40168-LA Rating EC2, Bayou Barataria Bridge/LA-302 Replacement, LA-45/Jean Lafitte Boulevard to LA-3257/Privateer Boulevard, Funding and U.S. Army COE Section 404 and U.S. Coast Guard Bridge Permits Issuance, Communities of Jean Lafitte and Barataria, Jefferson Parish, LA.

Summary: EPA has environmental concerns and requests additional information in the final EIS. Areas of concern include: consideration of additional alternatives, more balance in the assessment of the nature and extent of likely environmental impacts, correction of apparent inconsistencies or contradictions, and additional clarifications in the impact analysis.

ERP No. D-FHW-K40249-CA Rating EC2, Lincoln Bypass Construction, South of Industrial Boulevard to North of Riosa Road, Funding and U.S. Army COE Section 404 Permit Issuance, Placer County, CA.

Summary: EPA expressed environmental concerns about the 30.2 acres of wetland impacts from the Park and Ride facility, that cumulative and indirect impacts are not thoroughly analyzed in the DEIS, and the “AAC2” alignment should not be ruled out as the preferred alternative.

ERP No. D-FRC-F05123-00 Rating LO, Bond Falls Project, Issuing a New License for Existing Hydroelectric License, (FERC No. 1864-005) Ontonagon River Basin, Ontonagon and Gogebic Counties, MI and Vilas County, WI.

Summary: EPA had no objections to the proposed project.

ERP No. D-FRC-L03011-WA Rating EO2, Georgia Strait Crossing Pipeline (LP) Project, Construction and Operation, To Transport Natural Gas from the Canadian Border near Sumas, WA to U.S./Canada Border at Boundary Pass in the Strait of Georgia, Docket Nos. CP01-176-000 and CP01-179-000, Whatcom and San Juan Counties, WA.

Summary: EPA expressed environmental objections to the proposed project due to a lack of detailed evaluation of alternatives, lack of evaluation of the entire project, the lack of analysis at the ecosystem scale and the lack of integration with the evaluation and decisionmaking processes being conducted in Canada for the Canadian portion of the proposed project. EPA recommended that these issues, along with others, be addressed in the final EIS.

ERP No. DA-COE-E34030-FL Rating EC2, Central and Southern Florida Project, Water Preserve Areas (WPA) Feasibility Study, To Provide a Mechanism for Increased Aquifer Recharge and Surface and Subsurface Water Storage Capacity, Comprehensive Everglades Restoration Plan, Broward and Miami-Dade Counties, FL.

Summary: EPA expressed environmental concerns and requested that additional water quality and other information be provided in the final document.

ERP No. DA-COE-E36167-FL Rating LO, Central and Southern Florida Project, Tamiami Trail Feature (U.S. Highway 41), Modified Water Deliveries to Everglades National Park, Dade County, FL.

Summary: EPA had no objections to the measures proposed to protect the Tamiami roadway from overtopping and structural damages.

Final EISs

ERP No. F-AFS-J65334-MT, Keystone-Quartz Ecosystem Management, Implementation, Beaverhead-Deerlodge National Forest, Wise River Ranger District, Beaverhead County, MT.

Summary: EPA continues to have environmental concerns that the proposed action does not provide for improvement/restoration of existing low standard roads that have considerable local impact on stream channels.

ERP No. F-AFS-J65353-MT, Threemile Stewardship Project, Proposed Short-Term and Long-Term Vegetation and Road Management Activities, Ashland Ranger District, Custer National Forest, Powder and Rosebud Counties, MT.

Summary: EPA continues to express environmental concerns regarding the need for adequate oversight of the timber contractor during project implementation via stewardship contracting. EPA requested information on the Forest Service protocol for stewardship contracting that includes multi-party monitoring.

ERP No. F-COE-F35046-OH, Ashtabula River and Harbor Dredging and Disposal Project, Design, Construction, Operation and Maintenance, Ashtabula River Partnership (ARP), Ashtabula County, OH.

Summary: EPA continued to express environmental concerns regarding issues associated with PCBs and radioactive materials.

ERP No. F-COE-K36135-CA, White Slough Flood Control Study, Tidal Circulation Improvements and Section 205 Program Authorities Continuation, Vallejo Sanitation and Flood Control District, City of Vallejo, Solano County, CA.

Summary: EPA found the final EIS adequately addressed most of the issues raised in the comment letter on the DEIS. EPA requested additional information regarding water quality in White Sough, and reiterated support for a water quality monitoring component in the project.

Dated: February 12, 2002.
Joseph C. Montgomery,
Director, NEPA Compliance Division, Office of Federal Activities.

[FR Doc. 02-3754 Filed 2-14-02; 8:45 am]

BILLING CODE 6560-50-P